DEPARTMENT OF LABOR

Employment and Training Administration

[TA-W-51,436]

American Video Glass Company, a Subsidiary of Sony Technology Center, Mt. Pleasant, PA; Notice of Termination of Investigation

Pursuant to Section 221 of the Trade Act of 1974, as amended, an investigation was initiated on April 7, 2003 in response to a petition filed on behalf of workers at American Video Glass Company, a subsidiary of Sony Technology Center, Mt. Pleasant, Pennsylvania.

On April 1, 2003, the Department initiated a petition filed on behalf of workers of American Video Glass Company, a subsidiary of Sony Technology Center, Mt. Pleasant, Pennsylvania, TA-W-51,383, for which a determination has not yet been issued.

Since this worker group is the subject of an ongoing investigation, further investigation in this case would serve no purpose and the investigation has been terminated.

Signed at Washington, DC this 10th day of April, 2003.
Linda G. Poole,
Certifying Officer, Division of Trade Adjustment Assistance.

[FR Doc. 03-10748 Filed 4-30-03; 8:45 am]

BILLING CODE 4510-30-P